DEPARTMENT OF HEALTH AND HUMAN SERVICES

Substance Abuse and Mental Health Services Administration

Fiscal Year (FY) 2003 Funding Opportunity

AGENCY: Substance Abuse and Mental Health Services Administration, HHS.

ACTION: Notice of intent to award a single source grant to Iowa to conduct a Targeted Capacity Expansion (TCE) of methamphetamine prevention intervention and/or infrastructure development.

SUMMARY: The Substance Abuse and Mental Health Services Administration (SAMHSA), Center for Substance Abuse Prevention (CSAP) is publishing this notice to provide information to the public concerning a planned single source grant in the amount of $400,000 in FY 2003, $400,000 in FY 2004, and $400,000 in FY 2005 for a project period of three years to the State of Iowa. This is not a formal request for applications. Assistance will be provided only to the State of Iowa based on the receipt of a satisfactory application that is approved by an independent review group.

Funding Opportunity Number: SP 03-008.

Catalog of Federal Domestic Assistance (CFDA) Number: 93.243.

Authority/Justification: Section: 519E of the Public Health Service Act, as amended and subject to the availability of funds. Only the State of Iowa is eligible to apply. This single source program responds to the Congressional directive in the FY 2003 Appropriations Conference Report language to support methamphetamine prevention and treatment projects in Iowa. Methamphetamine use has been especially devastating in the Midwest. Iowa has seen increased arrests, treatment admissions, methamphetamine lab seizures and drug convictions related to methamphetamine use. According to the National Institute of Justice (NIJ) publication, ADAM Preliminary 2001 Findings on Drug Use and Drug Markets, Des Moines, Iowa, is highly ranked nationwide for methamphetamine use. The Des Moines Site Arrestee Drug Abuse Monitoring (ASAM) project has shown a steady increase in the number of arrestees testing positive for methamphetamine; the range is from 5.3% in the second quarter of 2000 to 38.5% in the third quarter of 2001. Females are beginning to test positive for methamphetamine at a consistently higher percentage than males. Treatment programs submitting data to the Iowa Department of Public Health Substance Abuse Reporting System (SARS) indicate that prior to 1994, methamphetamine was listed as the primary substance of abuse less than 3% of the time. Since 1999 SARS data has shown a steady increase from 8.3% to 12.3% in the primary use of methamphetamine. In 2002, 39% of the people in treatment programs that listed methamphetamine as their primary substance of abuse were under the age of 25. The Iowa Division of Narcotics Enforcement (DNE) has documented a 1,192% increase in the number of grams of methamphetamine seized from 1994 through 2002. State and local law enforcement responded to calls identifying over 19 methamphetamine laboratories per week last year and this trend continues in 2003. Methamphetamine use is increasing in the amount of drug used, more use by women and more use at younger ages. The use of methamphetamine is becoming epidemic in the Midwest as use spreads from the West to the East in the United States.

Iowa's trend information has demonstrated the need for a continuation of treatment and prevention projects. Outcomes from previous SAMHSA supported grants have proved successful; however, Iowa needs assistance to continue to expand and enhance services. This program provides a unique opportunity to assist Iowa to build on successful prevention and treatment models used in previous SAMHSA supported grants.

Contact for Additional Information: Pamela Roddy, Ph.D., Project Officer, Center for Substance Abuse Prevention, 5600 Fishers Lane/Rockwall II, Suite 1075, Rockville, MD 20857, (301) 443-1001, e-mail: proddy@samsha.gov.

Dated: May 22, 2003.
Richard Kopanda,
Executive Officer, Substance Abuse and Mental Health Services Administration.

[FR Doc. 03-13479 Filed 5-29-03; 8:45 am]

BILLING CODE 4162-20-P